ENVIRONMENTAL PROTECTION AGENCY

[OPP-2002-0321; FRL-7417-7]

Agency Information Collection Activities; Submission to OMB; Comment Request; EPA ICR No. 0595.08/OMB Control No. 2070-0055; Notice of Pesticide Registration by States To Meet a Special Local Need Under FIFRA Section 24(c)

AGENCY: Environmental Protection Agency (EPA).

ACTION: Notice.

SUMMARY: In compliance with the Paperwork Reduction Act (PRA) (44 U.S.C. 3501 et seq.), this document announces that the following Information Collection Request (ICR) has been forwarded to the Office of Management and Budget (OMB) for review and approval: Notice of Pesticide Registration by States to Meet a Special Local Need Under FIFRA Section 24(c); EPA ICR No. 0595.08; OMB Control No. 2070-0055. The ICR, which is abstracted below, describes the nature of the information collection activity and its expected burden and costs.

DATES: Additional comments may be submitted on or before January 3, 2003.

ADDRESSES: Follow the detailed instructions in the SUPPLEMENTARY INFORMATION section.

FOR FURTHER INFORMATION CONTACT: Nancy Vogel, Field and External Affairs Division (7506C), Office of Pesticide Programs, Environmental Protection Agency, 1200 Pennsylvania Ave., NW., Washington, DC 20460; telephone number: (703) 305-6475; fax number: (703) 305-5884; e-mail address: vogel.nancy@epa.gov.

SUPPLEMENTARY INFORMATION: EPA has submitted the following ICR to OMB for review and approval according to the procedures prescribed in 5 CFR 1320.12. The Federal Register document, required under 5 CFR 1320.8(d), soliciting comments on this collection of information was published on December 12, 2001 (66 FR 64249). EPA received one comment on this ICR during the 60-day comment period, and that comment is addressed in the ICR.

EPA has established a public docket for this ICR under Docket ID No. OPP-2002-0321 (formerly Docket Control No. OPP-00753), which is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to opp-docket@epa.gov, or by mail to: Public Information and Records Integrity Branch (PIRIB), Office of Pesticide Programs (OPP), Environmental Protection Agency (7502C), 1200 Pennsylvania Ave., NW., Washington, DC 20460-0001, Attention: Docket ID Number OPP-2002-0321; and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

ICR Title: Notice of Pesticide Registration by States to Meet a Special Local Need (SLN) Under FIFRA Section 24(c) (EPA ICR 0595.08, OMB Control No. 2070-0055).

ICR Status: This is a request for extension of an existing approved collection that is currently scheduled to expire on November 30, 2002. EPA is asking OMB to approve this ICR for three years. Under 5 CFR 1320.12(b)(2), the Agency may continue to conduct or sponsor the collection of information while the submission is pending at OMB.

Abstract: This data collection program is designed to provide the Environmental Protection Agency (EPA, the Agency) with the necessary data to review approval of State-issued pesticide registrations. The Federal Insecticide, Fungicide, and Rodenticide Act (FIFRA), section 24(c) authorizes the States to register additional uses of federally registered pesticides for distribution and use within the State to meet a special local need (SLN). A State-issued registration under FIFRA section 24(c) is deemed a Federal registration for the purposes of the pesticide's use within the State's boundaries. A State must notify EPA, in writing, of any action it takes, i.e., issues, amends, or revokes, a State registration. The Agency has 90 days to disapprove the registration. In such cases, the State is responsible for notifying the affected registrant.

Burden Statement: According to the Paperwork Reduction Act (PRA), “burden” means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. The Agency may not conduct or sponsor, and a person is not required to respond to a collection of information that is subject to approval under the PRA, unless it displays a currently valid OMB control number. The OMB control numbers for EPA's information collections appear on the collection instruments or instructions, in the Federal Register notices for related rulemakings and ICR notices, and, if the collection is contained in a regulation, in a table of OMB approval numbers in 40 CFR part 9.

The following is a summary of the burden estimates taken from the ICR:

Respondents/affected entities: State and territorial governments (the 50 states plus Washington, DC, Puerto Rico, the U.S. Virgin Islands, Guam and the islands of the Pacific Territory, and American Samoa).

Estimated total number of potential respondents: 60.

Frequency of response: As needed.

Estimated total/average number of responses for each respondent: 5-6.

Estimated total annual burden hours: 18,200.

Estimated total annual burden costs: $1,585,150.

Changes in the ICR Since the Last Approval: The Agency revised its burden estimates for both States and applicants based on information received during the public comment period and in consultation with respondents. The average applicant response burden decreased by 29 hours while the average State response burden increased by 11.5 hours, resulting in a net decrease in burden for the activities associated with this ICR. EPA estimates that the overall respondent burden has decreased from 24,604 hours to 18,200 hours, a decrease in burden of 6,404 hours. These changes are described in detail in the ICR.

According to the procedures prescribed in 5 CFR 1320.12, EPA has submitted this ICR to OMB for review and approval. Any comments related to the renewal of this ICR should be submitted within 30 days of this notice, as described above.

Dated: November 22, 2002.
Oscar Morales,
Director, Collection Strategies Division.

[FR Doc. 02-30758 Filed 12-3-02; 8:45 am]

BILLING CODE 6560-50-P